DEPARTMENT OF HEALTH AND HUMAN SERVICES

Office of Inspector General

Program Exclusions: December 2005

AGENCY: Office of Inspector General, HHS.

ACTION: Notice of program exclusions.

During the month of December 2005, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name | Address | Effective date
Program-Related Convictions
ALVAREZ, CANDELARIA | MIAMI, FL | 1/20/2006
AMIGO, ORLANDO | MIAMI, FL | 1/19/2006
ANDERSON, LINDA | ELK RIVER, MN | 1/20/2006
ANDREWS, CINDY | ONTARIO, OR | 1/20/2006
ARNOLD, MARY | SHUSHAN, NY | 1/19/2006
ARTILES, HELDY | MIAMI BEACH, FL | 1/20/2006
ARTILES, ORLANDO | MIAMI BEACH, FL | 1/20/2006
BAUMLI, CHRISTOPHER | LAKEWAY, TX | 1/20/2006
BENNETT, WILLIAM | NORTH BEND, OR | 11/21/2005
BICKEL, STEPHEN | TERRE HAUTE, IN | 1/19/2006
BONILLA, IRIS | HOUSTON, TX | 1/20/2006
BOYD, WESLEY | HOUSTON, TX | 1/20/2006
CAMPOS, MARGARITA | GREENVILLE, IL | 1/20/2006
CARNARU, ALEJANDRA | COLEMAN, FL | 1/20/2006
CHUNG, SAMUEL | JACKSON, TN | 1/19/2006
DAVILA, NOELIA | ALDERSON, WV | 1/20/2006
DEL CORAL, TOMAS | MIAMI, FL | 1/20/2006
DUDLEY, JACKLIN | NEW IBERIA, LA | 1/20/2006
GALVAN, ANTHONY | SAN RAMON, CA | 1/20/2006
GELLER, JOEL | WAWICK, NY | 1/19/2006
GONZALEZ, OLGA | COLEMAN, FL | 1/20/2006
HOFFMANN, AMANDA | ABERDEEN, SD | 1/19/2006
JACKSON, JONATHAN | HOUSTON, TX | 1/20/2006
JARI, STEVE | TAFT, CA | 1/20/2006
KENNEDY, BILL | LOS ANGELES, CA | 1/20/2006
KUSHNIR, MICHAEL | SUNNY ISLAND BEACH, FL | 1/20/2006
LYONS, JAMES | MIAMI, FL | 1/20/2006
MARGULIS ENTERPRISES, INC | OPELIKA, AL | 1/20/2006
MASTELLER, ROBERT | LYONS, CO | 1/20/2006
MEILE, DAVID | LINCOLN, NE | 1/20/2006
MONTEAGUDO, ELVA | COLEMAN, FL | 1/20/2006
MUELLER, WENDI | MONROE, WI | 1/19/2006
MULKEY, JESSICA | ELMONT, NY | 1/19/2006
NGUYEN, JAMES | RANDALLSTOWN, MD | 1/19/2006
NUNEZ, REBECA | COLEMAN, FL | 1/19/2006
O'DANIEL, ROBERT | PENSACOLA, FL | 1/20/2006
PICHARDO, CARMEN | FORT WORTH, TX | 1/20/2006
SANCHEZ, FRANK | SPOKANE, WA | 1/20/2006
SCHMIEDERER, PATRICK | PROSPECT HEIGHTS, IL | 1/19/2006
SMITH, DONNY | FREDERICK, MD | 1/19/2006
SNYDER, ANGELA | SILVERDALE, WA | 1/20/2006
SUAREZ, DULCE | COLEMAN, FL | 1/19/2006
TOWNSEND, BERNARD | TAFT, CA | 1/20/2006
TSYNMAN, NAUM | BROOKLYN, NY | 1/19/2006
VEGA, JOSE | MIAMI, FL | 1/19/2006
WERNER, SCOTT | ST GEORGE, UT | 1/6/2005
Felony Conviction for Health Care Fraud
ACKERT, ROBERT | PHILADELPHIA, PA | 1/19/2006
ALLEN, MORGANNA | COLUMBUS, OH | 1/19/2006
BAKER, ANDREA | HAMILTON, OH | 1/19/2006
BEEM, JEWELL | INDEPENDENCE, MO | 1/20/2006
BLAKELY, JUDY | LEIPSIC, OH | 1/20/2006
BOETTCHER, WILLIAM | CHARLOTTE, VT | 1/20/2006
DAVIDSON, JESSICA | VALLEJO, CA | 1/20/2006
GARY, CHENITA | PENSACOLA, FL | 1/20/2006
GOODRICH, ROBYN | ST PETERS, MO | 1/20/2006
HART, DONALD | PORT WASHINGTON, OH | 1/19/2006
HULL, CURTIS | HILLIARD, OH | 1/20/2006
KING, HEATHER | JEFFERSONVILLE, IN | 1/19/2006
LITTLE, STEPHANIE | BATESVILLE, MS | 1/20/2006
MOORE, JOHN | BELLBROOK, OH | 1/20/2006
PELPHREY, ANGIE | MARYSVILLE, OH | 1/20/2006
PERALTA, RAE | CARLSBAD, CA | 1/20/2006
RAGIN, CORINE | BROOKLYN, NY | 1/19/2006
SCHWARTZ, BRADLEY | MANSFIELD, OH | 1/20/2006
SIM, CHRISTOPHER | CUPERTINO, CA | 1/19/2006
SON, KISIK | DALY CITY, CA | 1/19/2006
SPENCER, MARIA | SHIPROCK, NM | 1/19/2006
SUHADOLNIK, MICHAEL | MORGANTOWN, WV | 1/19/2006
SULLIVAN, KIM | SUMMIT, MS | 1/20/2006
UNNERSTALL, RENEE | WRIGHT CITY, MO | 1/20/2006
YI, JOHN | BUFORD, GA | 1/19/2006
Felony Control Substance Conviction
BARNES, JACQUI | WAKEFIELD, MA | 1/20/2006
BERG, SUSAN | BARTLESVILLE, OK | 1/20/2006
COOK, CHARLES | BETTENDORF, IA | 1/19/2006
DAVIS, DELORES | TYLER, TX | 1/19/2006
HOUGH, RODNEY | CARLISLE, PA | 1/19/2006
JOHNSON, JULIA | CLARKSVILLE, TN | 1/19/2006
LOPEZ, KRISTINA | VICTORIA, TX | 1/20/2006
MOSS, JOE | CHAPEL HILL, TN | 1/19/2006
RICHARDSON, KIMBERLY | WINSTON SALEM, NC | 1/19/2006
RINGEL, STEVEN | YANKTON, SD | 1/20/2006
SHIPLETT, PAULA | NOBLE, OK | 1/20/2006
SMITH, MELISSA | SAN ANGELO, TX | 1/19/2006
WILLIAMS, TARA | SOUTH SALEM, OH | 1/20/2006
Patient Abuse/Neglect Convictions
ADAMS, CYNTHIA | BUFFALO, NY | 1/19/2006
BARNES, KISSILA | DENHAM SPRINGS, LA | 1/20/2006
BRYANT, WILLIAM | CROWN POINT, IN | 1/20/2006
COSBY, JUAN | GONZALES, LA | 1/19/2006
COULBOURNE, SHARON | BLOUNTVILLE, TN | 1/19/2006
COX, ROY | SAN DIEGO, CA | 1/20/2006
DULANEY, JESSE | MCCOMB, MS | 1/19/2006
GARRETT, SHAWN | BUFFALO, NY | 1/19/2006
HOLLISTER, PHILIP | HOPKINTON, RI | 1/20/2006
JACKSON, RUBY | BALL, LA | 1/20/2006
KILLEBREW, RUTH | MINCO, OK | 1/19/2006
KIRKLAND, TERESA | ALDEN, NY | 1/19/2006
LAMIS, EMERITA | FAIR OAKS, CA | 1/19/2006
LAYSSARD, LATOYA | COLFAX, LA | 1/20/2006
LEWIS, JANICE | BOGUE CHITTO, MS | 1/20/2006
MAIORANO, DAWN | PORT JEFFERSON STATION, NY | 1/19/2006
MONSEBAIS, VALERIE | CHICKASHA, OK | 1/20/2006
NILSEN, ELSIE | STATEN ISLAND, NY | 1/19/2006
NORTON, RABECKA | SHAWNEE, OK | 1/20/2006
OAMIL, MERLINA | WAIALUA, HI | 1/20/2006
SMITH, KIMITRIA | COFFEEVILLE, MS | 1/20/2006
SWINDERMAN-LAUGHTER, MICHELLE | SEVILLE, OH | 1/20/2006
THOM, DESIREE | S OZONE PARK, NY | 1/19/2006
VANDI, SOLOMON | GREENBELT, MD | 1/20/2006
WOOD, CHRISTINE | RICHFORD, NY | 1/19/2006
WORWA, PATRICIA | CHEEK TOWAGA, NY | 1/19/2006
Conviction for Health Care Fraud
CURL, HELENE | CEDAR RAPIDS, IA |
YALDIZIAN, RICHARD | HOWARD BEACH, NY | 1/19/2006
Controlled Substance Convictions
ERVIN, SUZIE | MOUNT PLEASANT, MI | 1/20/2006
License Revocation/Suspension/Surrendered
ALEXANDER, VINCILIA | RIVERVIEW, FL | 1/20/2006
ALLBRITTON, JAMES | VERO BEACH, FL | 1/20/2006
ALLEN, CORIE | SEBASTOPOL, CA | 1/20/2006
ANDERSON-MCKAY, TOBY | WALDOBORO, ME | 1/19/2006
ASHMAN, LEONARD | SACRAMENTO, CA | 1/20/2006
ATTENBOROUGH, CHRISTIE | CHICAGO, IL | 1/20/2006
BALDERRAMA, MARIA | GARDEN GROVE, CA | 1/20/2006
BALL, DAVID | TUCSON, AZ | 1/20/2006
BARBER, LISA | SUN VALLEY, CA | 1/20/2006
BARNETT, DEBRA | DEEP RUN, NC | 1/20/2006
BARREIRO, MANUEL | PLANT CITY, FL | 1/20/2006
BEYDLER, LISA | LARNED, KS | 1/20/2006
BLAXTON, JENNIFER | HILLSBORO, AL | 1/20/2006
BLEDSOE, MICHELLE | KNOXVILLE, TN | 1/20/2006
BRISTOL, LECONTI | JASPER, FL | 1/20/2006
BROWN, ALISON | AUGUSTA, GA | 1/20/2006
BROWN, DONNA | MERIDIAN, MS | 1/19/2006
BROWN, MILFORD | RUSSELLVILLE, AR | 1/20/2006
BROWNLEE, GWENDOLYN | FRESNO, CA | 1/19/2006
BUCKMAN, ROBERTA | CHESAPEAKE, VA | 1/19/2006
CALDWELL, JENNIE | KINGS MOUNTAIN, NC | 1/20/2006
CALLINS, JAN | GUYS, TN | 1/20/2006
CAMPBELL, KAREN | SAN ANGELO, TX | 1/19/2006
CARBONE, MARY LOU | PHOENIX, AZ | 1/20/2006
CARTER, CHARLOTTE | ELGIN, TX | 1/20/2006
CASDEN, TERRI | ORMOND BEACH, FL | 1/20/2006
CLAY, YUWANYA | ORLANDO, FL | 1/20/2006
CLEGG, BARBARA | FLAGSTAFF, AZ | 1/20/2006
COBB, JULIE | DALEVILLE, AL | 1/20/2006
COLLETTE, ROBERT | HAYMARKET, VA | 1/19/2006
COMBES, CHERIE | HORN LAKE, MS | 1/19/2006
DANGER, OSNER | FT MYERS, FL | 1/20/2006
DAVID, BARBARA | CANTONMENT, FL | 1/20/2006
DONALDSON, WILLIAM | TULSA, OK | 1/20/2006
DRISCOLL, KIMBERLY | MIAMI, FL | 1/20/2006
EFIRD, JILL | MONROE, NC | 1/20/2006
ELLIOTT, ROSS | CHARLOTTE, NC | 1/20/2006
ENGLER, KEVIN | MEDFORD, OR | 1/19/2006
ESTEP, LORA | MORRISTOWN, TN | 1/20/2006
FANN, MARGARET | RICHLAND, WA | 1/20/2006
FANNIN, RHONDA | HILLIARD, OH | 1/20/2006
FAWCETT, DEAN | POLLOCK PINES, CA | 1/20/2006
FAYARD, DANIELLE | LONG BEACH, MS | 1/20/2006
FILKA, JACKIE | ST PETERSBURG, FL | 1/19/2006
FINDLAY, THOMAS | WEST PALM BEACH, FL | 1/20/2006
FOSHEE, DEBRA | PINSON, AL | 1/20/2006
FOSTER, RITA | MORTON, MS | 1/19/2006
FOUNTAIN, POMEROYAL | ITHACHA, NY | 1/19/2006
GABRIEL, JULIO | CONCORD, CA | 1/19/2006
GALLER, CHERIE | MASPETH, NY | 1/19/2006
GIBSON, KATHY | ORANGE CITY, FL | 1/19/2006
GIBSON, MELANIE | HORTON, KS | 1/20/2006
GO, ESTRELLITA | PITTSBURG, CA | 1/19/2006
GOEDDEL, JOYCE | SEBRING, FL | 1/20/2006
GONZALES, CRESENDO | CLEAR LAKE, CA | 1/20/2006
GOOCH, JOHN | GARDENDALE, AL | 1/20/2006
GUFFEY, CHERYL | SHEPHERDSVILLE, KY | 1/20/2006
HAMAD, JAMAL | OCALA, FL | 1/20/2006
HAMMOND, ROBERT | SKOKIE, IL | 1/20/2006
HARPER, MARGARET | SCHENECTADY, NJ | 1/19/2006
HARRIS, RHONDA | NEW JOHNSONVILLE, TN | 1/20/2006
HARRISON, CHARLENE | BONITA SPRINGS, FL | 1/20/2006
HARVEY, KELLY | CLEVELAND, MS | 1/19/2006
HATFIELD, ANGEL | SPRINGFIELD, IL | 1/19/2006
HAWKINS, TERESA | COCOA, FL | 1/20/2006
HECKMAN, SONYA | CLEARWATER, FL | 1/20/2006
HENDERSON, AMEENAH | SCOTTSDALE, AZ | 1/20/2006
HIGHSMITH, WILLIE | TAMPA, FL | 1/20/2006
HUNTER, IAN | PENN VALLEY, CA | 1/19/2006
JACKSON, SCOCIA | OAKLAND, CA | 1/20/2006
JENKINS, TAIWANA | SAINT PETERSBURG, FL | 1/20/2006
JENT, JOHN | GALLATIN, TN | 1/20/2006
JOHNSON, CAROLYN | CHINO VALLEY, AZ | 1/20/2006
JOHNSON, STEVEN | LANGSTON, AL | 1/20/2006
JOHNSTON, JOHN | GRANADA HILLS, CA | 1/20/2006
JONES, ETHEL | PHOENIX, AZ | 1/20/2006
KAUR, RAJVINDER | PINOLE, CA | 1/20/2006
KAVOOSSI, PARVIZ | UPLAND, CA | 1/20/2006
KEEMON, CRYSTAL | OROVILLE, CA | 1/19/2006
KIENZLE, RICHARD | COPPERHILL, TN | 1/20/2006
LACKEY, EDITH | HICKORY, NC | 1/20/2006
LAMB, AIMEE | MONROE, NC | 1/20/2006
LEPPLA, GAIL | RALEIGH, NC | 1/20/2006
LEWIS, MELISSA | MATTHEWS, NC | 1/20/2006
LEWIS, YOLANDA | BROCKTON, MA | 1/19/2006
LOCKE, BEVERLY | WINONA, MS | 1/19/2006
LOFTON, SHERRY | HAMILTON, MS | 1/20/2006
LOTT, MARK | LEESBURG, GA | 1/20/2006
MATTICE, PERDITA | MESA, AZ | 1/20/2006
MATUSIK, MARY | MERRILLVILLE, IN | 1/19/2006
MAUCH, BRETT | SARASOTA, FL | 1/20/2006
MCCORA, THOMAS | SALISBURY, NC | 1/20/2006
MCCRAW, APRIL | LOUIN, MS | 1/20/2006
MCGUFFIE, DIANA | CANTON, MS | 1/19/2006
MCLEROY, KEVIN | GOLD HILL, OR | 1/20/2006
MCPHERSON, WARREN | RENTON, WA | 1/19/2006
MEDICAP PHARMACY | GRAND BLANC, MI | 1/19/2006
MELLS, ELLA | ST PETERSBURG, FL | 1/19/2006
MELTON, TAMMY | WEWAHITCHKA, FL | 1/20/2006
MILLAIRE, JENNIFER | OCOEE, FL | 1/20/2006
MOMONGAN, DIOSDADO | NORTHBROOK, IL | 1/20/2006
MOORE, HOLLY | HUTCHINSON, KS | 1/20/2006
MULLINS, KIMBERLY | PLANT CITY, FL | 1/20/2006
MUNOZ FLORES, J | SPOKANE, WA | 1/19/2006
NEELY, JEANA | LOUISVILLE, MS | 1/20/2006
NEWMAN, STEVEN | HENDERSON, NV | 1/20/2006
NEWMAN, SUSAN | DUNLAP, TN | 1/20/2006
NUNLEY, RONALD | NICEVILLE, FL | 1/20/2006
ODOM, CAROL | GREEN VALLEY, AZ | 1/20/2006
PARANTO, RONALD | WASHINGTON, IL | 1/19/2006
PASLAY, CYNTHIA | FT. WORTH, TX | 1/20/2006
PAULUS, KELLIE | VERO BEACH, FL | 1/19/2006
PAYNE, GEORGE | CULLMAN, AL | 1/19/2006
PHILLIPS, TERESA | SEMINARY, MS | 1/19/2006
PINDER, SHARAYNE | MIAMI, FL | 1/20/2006
PITMAN, CAMERON | PENSACOLA, FL | 1/19/2006
POSTON, KATRINA | OPP, AL | 1/19/2006
PRICHER, MICHELLE | PLANT CITY, FL | 1/19/2006
RADA, GEORGE | BONIFAY, FL | 1/19/2006
RAMSEY, SUSAN | PIKETON, OH | 1/19/2006
RIVERA, ADA | HIALEAH, FL | 1/20/2006
SCHAFER, ROSEMARIE | WEIRSDALE, FL | 1/19/2006
SCHEFFEY, ERIC | HOUSTON, TX | 1/20/2006
SCHULTZ, TERRI | EVANSVILLE, IN | 1/20/2006
SHELTON, DAVID | TRENTON, FL | 1/20/2006
SMETANA, DENNIS | NEW YORK, NY | 1/19/2006
SMITH, ADAM | STUART, FL | 1/19/2006
SMITH, COLEEN | NEODESHA, KS | 1/20/2006
SMITH, JAMEY | WELLSVILLE, OH | 1/19/2006
SMITH, LAURA | INDEPENDENCE, MO | 1/20/2006
SMITH, LEACIA | ROCKY POINT, NC | 1/20/2006
STARLING, DIANNA | PENSACOLA, FL | 1/20/2006
STIERHEIM, LAURA | PHOENIXVILLE, PA | 1/19/2006
SULKOWSKI, HOPE | LAKE GROVE, NY | 1/19/2006
SULLIVAN, NORMA | KECHI, KS | 1/20/2006
THOMAS, MARY | HORTON, KS | 1/20/2006
TONN, KERRIE | HUTCHINSON, KS | 1/20/2006
TRACEY, COREEN | DUNEDIN, FL | 1/20/2006
TUCKER, DENISE | HAVENLOCK, NC | 1/20/2006
VANDERGRIFF, CHARLES | SEATTLE, WA | 1/19/2006
VILLAGRACIA, ROMANO | VALLEJO, CA | 1/19/2006
WAIBLE, SANDRA | CRAWFORDSVILLE, IN | 1/20/2006
WARREN, DOROTHY | HIMA, KY | 1/20/2006
WHITE BROWN, ADELINE | CENTRALIA, IL | 1/20/2006
WHITE, JANICE | MAPLE VALLEY, CA | 1/19/2006
WHITEHEAD, GEORGE | LYNNWOOD, WA | 1/19/2006
WHITLEY, TRACI | WILSON, NC | 1/20/2006
WILSON, TRACEY | HOPKINSVILLE, KY | 1/19/2006
WOOD, MARY | NAPA, CA | 1/19/2006
ZAMZOW, JAMES | GLENVIEW, IL | 1/20/2006
ZIMMERMAN, JEANEASE | BAKERSFIELD, CA | 1/19/2006
Fraud/Kickbacks/Prohibited Acts/Settlement Agreements
BEST DME CORPORATION | EGLIN AFB, FL | 7/15/2002
CONTINUOUS MGMT CONSULTING & FINANCIAL SVCS LIMITED | EGLIN AFB, FL | 7/15/2002
DME SERVICES, CORP | EGLIN AFB, FL | 7/15/2002
INTERCORPORATE FINANCIAL SVCS & MGMT GROUP, INC | EGLIN AFB, FL | 7/15/2002
PM CONSULTING GROUP, INC | TAMPA, FL | 7/15/2002
QUALITY BILLING SERVICES, INC | TAMPA, FL | 7/15/2002
T-TECH MEDICAL SERVICES, INC | SAFETY HARBOR, FL | 7/15/2002
Default on Heal Loan
CAZARES-MARTINEZ, MARK | CATHEDRAL CITY, CA | 1/20/2006
JAIMES, LAURA | PICO RIVERA, CA | 1/20/2006
JAKUBOWICZ, LEEOR | WALNUT CREEK, CA | 1/20/2006
LENNARTZ, THOMAS | CULVER CITY, CA | 1/20/2006
LIPSCHUTZ, ROBERT | PHILADELPHIA, PA | 1/20/2006
MARTINEZ-DELEON, ANDRES | GOLDENROD, FL | 1/20/2006
MITCHELL, JIMMY | CONCORD, CA | 1/20/2006
MORALES, MARIELY | KISSIMMEE, FL | 1/20/2006

Dated: January 9, 2006.
Kathleen Pettit,
Acting Director, Exclusions Staff, Office of Inspector General.

[FR Doc. 06-371 Filed 1-13-06; 8:45 am]

BILLING CODE 4152-01-P